DEPARTMENT OF COMMERCE

Foreign-Trade Zones Board

[S-159-2022]

Foreign-Trade Zone 161—Wichita, Kansas; Application for Subzone; Great Plains Manufacturing, Incorporated; Salina, Kipp, Assaria, Abilene, Enterprise, Ellsworth, Lucas and Tipton, Kansas

An application has been submitted to the Foreign-Trade Zones (FTZ) Board by the Board of County Commissioners of Sedgwick County, Kansas, grantee of FTZ 161, requesting subzone status for the facilities of Great Plains Manufacturing, Incorporated (GPM), located in Salina, Kipp, Assaria, Abilene, Enterprise, Ellsworth, Lucas and Tipton, Kansas. The application was submitted pursuant to the provisions of the Foreign-Trade Zones Act, as amended (19 U.S.C. 81a-81u), and the regulations of the FTZ Board (15 CFR part 400). It was formally docketed on September 6, 2022.

The proposed subzone for GPM would consist of the following sites totaling 421.61 acres: Site 1 (99.97 acres)—1525 East North Street, Salina, Saline County; Site 2 (155 acres)—3861 South 9th Street, Salina, Saline County; Site 3 (6.4 acres)—244 North Hugh Street, Kipp, Saline County; Site 4 (14.17 acres)—108 West 2nd Street, Assaria, Saline County; Site 5 (39.4 acres)—1100 NW 8th Street, Abilene, Dickinson County; Site 6 (54 acres)—2150 NW 8th Street, Abilene, Dickinson County; Site 7 (15.9 acres)—410 East 1st Street, Enterprise, Dickinson County; Site 8 (18.53 acres)—910 East 8th Street, Ellsworth, Ellsworth County; Site 9 (14 acres)—240 South Greeley Avenue, Lucas, Russell County; and, Site 10 (4.24 acres)—607 Main Street, Tipton, Mitchell County. A notification of proposed production activity has been submitted and will be published separately for public comment. The proposed subzone would be subject to the existing activation limit of FTZ 161.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is October 24, 2022. Rebuttal comments in response to material submitted during the foregoing period may be submitted during the subsequent 15-day period to November 7, 2022.

A copy of the application will be available for public inspection in the “Online FTZ Information Section” section of the FTZ Board's website, which is accessible via www.trade.gov/ftz.

For further information, contact Camille Evans at Camille.Evans@trade.gov.

Dated: September 7, 2022.
Andrew McGilvray,
Executive Secretary.

[FR Doc. 2022-19626 Filed 9-9-22; 8:45 am]

BILLING CODE 3510-DS-P